DEPARTMENT OF TRANSPORTATION

Federal Aviation Administration

Twentieth RTCA SC-223 Aeronautical Mobile Airport Communication System Plenary Calling Notice

AGENCY: Federal Aviation Administration (FAA), U.S. Department of Transportation (DOT).

ACTION: Twentieth RTCA SC-223 Aeronautical Mobile Airport Communication System Plenary Calling Notice.

SUMMARY: The FAA is issuing this notice to advise the public of a meeting of Twentieth RTCA SC-223 Aeronautical Mobile Airport Communication System Plenary Calling Notice.

DATES: The meeting will be held November 08-09, 2016, 09:00 a.m.-05:00 p.m. and November 10, 2016 09:00 a.m.-12:00 p.m.

ADDRESSES: The meeting will be held at: RTCA Headquarters, 1150 18th Street NW., Suite 910, Washington, DC 20036.

FOR FURTHER INFORMATION CONTACT: Rebecca Morrison at rmorrison@rtca.org or (202) 330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twentieth RTCA SC-223 Aeronautical Mobile Airport Communication System Plenary Calling Notice. The agenda will include the following:

November 8 & 9, 9:00 a.m. to 5:00 p.m., November 10, 9:00 a.m. to 12:00 p.m.

1. Welcome, Introductions, Administrative Remarks

2. Review of Previous Meeting Notes and Action Items

3. Review of Current State of Industry Standards

a. ICAO WG-I

b. AEEC IPS Sub Committee

4. Current State of Industry Activities

a. SESAR Programs

b. ESA IRIS Precursor

c. Any Other Activities

5. IPS Technical Discussions

a. Review of Profiling Report on IPv6 Functions and Corresponding RFCs

b. Review of IPS RFC Profiles

c. Prioritization of Additional IETF RFCs for Profiling

6. Any Other Topics of Interest

7. Plans for Next Meetings

8. Review of Action Items and Meeting Summary

9. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 19, 2016.
Mohannad Dawoud,
Management & Program Analyst, Partnership Contracts Branch, ANG-A17 NextGen, Procurement Services Division, Federal Aviation Administration.

[FR Doc. 2016-22826 Filed 9-21-16; 8:45 am]

BILLING CODE 4910-13-P